DEPARTMENT OF COMMERCE

National Oceanic and Atmospheric Administration

[I.D. 061901C]

International Whaling Commission; Meetings

AGENCY: National Marine Fisheries Service (NMFS), National Oceanic and Atmospheric Administration (NOAA), Commerce.

ACTION: Notice of public meetings.

SUMMARY: NOAA makes use of a public Interagency Committee to assist in preparing for meetings of the International Whaling Commission (IWC). This notice defines guidelines for participating on the Committee and provides a tentative schedule of meetings and of important dates.

DATES: The July 6, 2001, Interagency Meeting will be held at 2 p.m. See SUPPLEMENTARY INFORMATION for the schedule for the 2001 IWC annual meeting.

ADDRESSES: The July 6, 2001, meeting will be held in Room B841-A, Herbert C. Hoover Building, Department of Commerce, 14th Street and Constitution Avenue, N.W., Washington, D.C. 20230.

FOR FURTHER INFORMATION CONTACT: Cathy Campbell, (301) 713-2322 Extension 141.

SUPPLEMENTARY INFORMATION: The purpose of the July 6, 2001, Interagency Committee meeting is to review recent events relating to the IWC and to discuss U.S. positions for the 2001 IWC annual meeting.

The Secretary of Commerce is charged with the responsibility of discharging the obligations of the United States under the International Convention for the Regulation of Whaling, 1946. The U.S. Commissioner to the IWC has primary responsibility for the preparation and negotiation of U.S. positions on international issues concerning whaling and for all matters involving the IWC. He is staffed by the Department of Commerce and assisted by the Department of State, the Department of the Interior, the Marine Mammal Commission, and by other interested agencies.

Each year, NOAA conducts meetings and other activities to prepare for the annual meeting of the IWC. The major purpose of the preparatory meetings is to provide input in the development of policy by individuals and non-governmental organizations interested in whale conservation. NOAA believes that this participation is important for the effective development and implementation of U.S. policy concerning whaling. Any person with an identifiable interest in whale conservation policies may participate in the meetings, but NOAA reserves the authority to inquire about the interest of any person who appears at a meeting and to determine the appropriateness of that person's participation. Foreign nationals and persons who represent foreign governments may not attend. These stringent measures are necessary to promote the candid exchange of information and to establish the necessary basis for the relatively open process of preparing for IWC meetings that characterizes current practices.

Tentative Meeting Schedule

The schedule for the 2001 IWC annual meeting is as follows:

July 3-4, 2001 (London, UK): IWC Scientific Committee Working Groups and Sub-committees.

July 4-16, 2001 (London, UK): IWC Scientific Committee.

July 18-21, 2001 (London, UK): IWC Commission Committees, Sub-committees and Working Groups.

July 23-27, 2001 (London, UK): IWC 53rd Annual Meeting.

Special Accommodations

Department of Commerce meetings are physically accessible to people with disabilities. Requests for sign language interpretation or other auxiliary aids should be directed to Cathy Campbell (see FOR FURTHER INFORMATION CONTACT) at least 5 days prior to the meeting date.

Dated: June 22, 2001.
Don Knowles,
Director, Office of Protected Resources, National Marine Fisheries Service.

[FR Doc. 01-16286 Filed 6-27-01; 8:45 am]

BILLING CODE 3510-22-S